NUCLEAR REGULATORY COMMISSION

[Docket No. 50-346]

FirstEnergy Nuclear Operating Co; Notice of Withdrawal of Application for Amendment to Facility Operating License

The U.S. Nuclear Regulatory Commission (the Commission) has granted the request of FirstEnergy Nuclear Operating Company (the licensee) to withdraw its March 30, 2001, application for proposed amendment to Facility Operating License No. NPF-3 for the Davis-Besse Nuclear Power Station, Unit No. 1, located in Ottawa County, Ohio.

The proposed amendment would have revised the Technical Specifications regarding surveillance testing of the watertight enclosure for Decay Heat Removal System valves DH-11 and DH-12 to decrease the frequency of functional testing.

The Commission had previously issued a Notice of Consideration of Issuance of Amendment published in the Federal Register on May 30, 2001 (66 FR 29355). However, by letter dated December 20, 2002, the licensee withdrew the proposed change.

For further details with respect to this action, see the application for amendment dated March 30, 2001, and the licensee's letter dated December 20, 2002, which withdrew the application for license amendment. Documents may be examined, and/or copied for a fee, at the NRC's Public Document Room (PDR), located at One White Flint North, Public File Area O1F21, 11555 Rockville Pike, Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, MD, this 17th day of January 2003.
For the Nuclear Regulatory Commission.
Jon Hopkins,
Senior Project Manager, Section 2, Project Directorate III, Division of Licensing Project Management, Office of Nuclear Reactor Regulation.

[FR Doc. 03-1635 Filed 1-23-03; 8:45 am]

BILLING CODE 7590-01-P